DEPARTMENT OF ENERGY

Federal Energy Regulatory Commission

[Docket No. CP11-486-000 ]

Gulf LNG Pipeline, LLC; Notice of Request Under Blanket Authorization

Take notice that on May 18, 2011, Gulf LNG Pipeline, LLC (GLNG Pipeline), Colonial Brookwood Center, 569 Brookwood Village, Birmingham, Alabama 35209, filed in Docket No. CP11-486-000 an application, pursuant to sections 157.205, 157.208, and 157.212 of the Commission's Regulations under the Natural Gas Act (NGA), as amended, for authority to construct, own, and operate 120 feet of 24-inch diameter pipeline and certain check measurement equipment for an interconnection with Transcontinental Gas Pipe Line, LLC (Transco) and Florida Gas Transmission Company (FGT) located in Jackson County, Mississippi, under GLNG Pipeline's blanket certificate issued in Docket No. CP06-14-000,¹ all as more fully set forth in the application which is on file with the Commission and open to the public for inspection.

¹ 118 FERC ¶ 61,128 (2007).

GLNG Pipeline proposes to install approximately 120 feet of 24-inch diameter pipeline and certain check measurement equipment for a new interconnection with Transco and FGT located at the terminus of the Pascagoula Expansion Project in Moss Point, Jackson County, Mississippi. GLNG Pipeline states that the interconnection would allow GLNG Pipeline to deliver and Transco and FGT to receive up to 810,000 dekatherms per day of firm transportation service. GLNG further states that there would be no change in GLNG Pipeline's daily design capacity or daily operating pressure as a result of constructing the proposed facilities. Finally, GLNG Pipeline states that it would spend approximately $245,000 to construct the proposed interconnection facilities.

Any questions concerning this application may be directed to Margaret G. Coffman, Counsel, Gulf LNG Pipeline Company, LLC, Colonial Brookwood Center, 569 Brookwood Village, Birmingham, Alabama 35209, or via telephone at (205) 325-7424 or e-mail at meghan.coffman@elpaso.com.

This filing is available for review at the Commission or may be viewed on the Commission's Web site at http://www.ferc.gov, using the “eLibrary” link. Enter the docket number excluding the last three digits in the docket number filed to access the document. For assistance, please contact FERC Online Support at FERCOnlineSupport@ ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: May 24, 2011.
Kimberly D. Bose,
Secretary.

[FR Doc. 2011-13473 Filed 5-27-11; 8:45 am]

BILLING CODE 6717-01-P